DEPARTMENT OF HOMELAND SECURITY

Coast Guard

33 CFR Part 117

[Docket No. USCG-2017-0018]

Drawbridge Operation Regulation; Gulf Intracoastal Waterway, Belle Chasse, Louisiana

AGENCY: Coast Guard, DHS.

ACTION: Notice of deviation from drawbridge regulations.

SUMMARY: The Coast Guard has issued a temporary deviation from the operating schedule that governs the State Route 23 Bridge across the Gulf Intracoastal Waterway (Algiers Alternate Route), mile 3.8, at Belle Chasse, Plaquemines Parish, Louisiana. The deviation is necessary to facilitate movement of vehicular traffic for the 2017 New Orleans Air Show to be held at the U.S. Naval Air Station, Joint Reserve Base at Belle Chasse, Louisiana. This deviation allows the bridge to remain in the closed-to-navigation position for several hours on two afternoons to accommodate the additional volume of vehicular traffic following the event.

DATES: This temporary deviation is effective from 4 p.m. on Saturday, April 22, 2017 through 6:30 p.m. on Sunday, April 23, 2017.

ADDRESSES: The docket for this deviation, [USCG-2017-0018] is available at http://www.regulations.gov. Type the docket number in the “SEARCH” box and click “SEARCH”. Click on Open Docket Folder on the line associated with this deviation.

FOR FURTHER INFORMATION CONTACT: If you have questions on this temporary deviation, call or email Giselle MacDonald, Bridge Administration Branch, Coast Guard, telephone 504-671-2128, email Giselle.T.MacDonald@uscg.mil.

SUPPLEMENTARY INFORMATION: The Department of the Navy requested a temporary deviation from the operating schedule of the State Route 23 vertical lift span bridge across the Gulf Intracoastal Waterway, mile 3.8, at Belle Chasse, Plaquemines Parish, Louisiana. The 2017 New Orleans Air Show is being held on the weekend of April 22-23, 2017. The deviation will accommodate the anticipated vehicle traffic associated with the large amount of the general public that will attend this popular event. This temporary deviation will allow the bridge to remain in the closed-to-navigation position from 4 p.m. until 6:30 p.m. on Saturday, April 22, 2017 and from 4 p.m. until 6:30 p.m. on Sunday, April 23, 2017.

In accordance with 33 CFR 117.451(b), the bridge currently opens on signal; except that, from 6 a.m. to 8:30 a.m. and from 3:30 p.m. to 5:30 p.m. Monday through Friday, except Federal holidays, the draw need not be opened for the passage of vessels.

The State Route 23 vertical lift span bridge across the Gulf Intracoastal Waterway (Algiers Alternate Route), mile 3.8, at Belle Chasse, Louisiana has a vertical clearance of 40 feet above mean high water in the closed-to-navigation position and 100 feet above mean high water in the open-to-navigation position. Navigation on the waterway consists primarily of tugs with tows, commercial fishing vessels, and occasional recreational craft. Mariners may use the Gulf Intracoastal Waterway (Harvey Canal) as an alternate.

The Coast Guard has coordinated the closure with waterway users, industry, and other Coast Guard units. It has been determined that this closure will not have a significant effect on vessel traffic. The bridge will not be able to open for emergencies during the closure period.

In accordance with 33 CFR 117.35(e), the drawbridge must return to its regular operating schedule immediately at the end of the designated time period. This deviation from the operating regulations is authorized under 33 CFR 117.35.

Dated: March 31, 2017.
Eric A. Washburn,
Bridge Administrator, Eighth Coast Guard District.

[FR Doc. 2017-07383 Filed 4-11-17; 8:45 am]

BILLING CODE 9110-04-P